DEPARTMENT OF TRANSPORTATION

Surface Transportation Board

[STB Finance Docket No. 34547]

Tonopah & Tidewater Railroad Co.—Lease and Operation Exemption—Pan Western Corporation

Tonopah & Tidewater Railroad Co. (TTRR), a noncarrier, has filed a verified notice of exemption under 49 CFR 1150.31 to lease from Pan Western Corporation (Pan Western) and operate approximately 2.66 miles of private rail line owned by Pan Western, extending from milepost 0.0 to milepost 2.66 in Clark County, NV. Pan Western intends to lease the railroad line to TTRR so that TTRR may initiate and provide common carrier rail operations on and over the line. TTRR will become a Class III rail carrier. TTRR certifies that its projected revenues are not expected to exceed those of a Class III rail carrier or $5 million annually.

The transaction was due to be consummated on or after September 9, 2004, the effective date of the exemption (7 days after the exemption was filed).

If the notice contains false or misleading information, the exemption is void ab initio. Petitions to revoke the exemption under 49 U.S.C. 10502(d) may be filed at any time. The filing of a petition to revoke will not automatically stay the transaction.

An original and 10 copies of all pleadings, referring to STB Finance Docket No. 34547, must be filed with the Surface Transportation Board, 1925 K Street, NW., Washington, DC 20423-0001. In addition, one copy of each pleading must be served on Jeffrey O. Moreno, Esq., Thompson Hine LLP, 1920 N Street, NW., Suite 800, Washington, DC 20036-1601.

Board decisions and notices are available on our Web site at http://www.stb.dot.gov.

Decided: September 22, 2004.
By the Board, David M. Konschnik, Director, Office of Proceedings.
Vernon A. Williams,
Secretary.

[FR Doc. 04-21981 Filed 9-29-04; 8:45 am]

BILLING CODE 4915-01-P